COMMISSION ON CIVIL RIGHTS

Notice of Cancellation of Public Meeting of the Hawaii Advisory Committee

Notice is hereby given, pursuant to the provisions of the rules and regulations of the U.S. Commission on Civil Rights, that a meeting of the Hawaii Advisory Committee to the Commission which was to have convened at 1 p.m. and adjourned at 4 p.m. on Friday, April 11, 2003, at the Ala Moana Hotel, 410 Atkinson Drive, Honolulu, Hawaii 96814, has been canceled.

The original notice for the meeting was announced in the Federal Register on February 11, 2003, FR Doc. 03-3409, vol. 68, page 6876.

Persons desiring additional information should contact Phillip Montez, Director of the Western Regional Office, 213-894-3437 (TDD 213-894-3435).

Dated in Washington, DC, April 4, 2003.
Ivy L. Davis,
Chief, Regional Programs Coordination Unit.

[FR Doc. 03-8758 Filed 4-9-03; 8:45 am]

BILLING CODE 6335-01-P